FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than October 26, 2000.

A. Federal Reserve Bank of Philadelphia (Michael E. Collins, Senior Vice President) 100 North 6th Street, Philadelphia, Pennsylvania 19105-1521:

1. National Penn Bancshares, Inc., Boyertown, Pennsylvania; to acquire 100 percent of the voting shares of Community Independent Bank, Inc., Bernville, Pennsylvania, and thereby indirectly acquire voting shares of Bernville Bank, NA, Hackettstown, New Jersey.

B. Federal Reserve Bank of Richmond (A. Linwood Gill, III, Vice President) 701 East Byrd Street, Richmond, Virginia 23261-4528:

1. BB&T Corporation, Winston-Salem, North Carolina; to merge with BankFirst Corporation, Knoxville, Tennessee, and thereby indirectly acquire voting shares of BankFirst, Knoxville, Tennessee, and First National Bank and Trust Company, Athens, Tennessee.

In connection with this application, Applicant also has applied to acquire BankFirst Trust Company, Knoxville, Tennessee, and thereby engage in trust company activities, pursuant to § 225.28(b)(5) of Regulation Y.

In addition, Applicant also has requested permission to exercise an option to acquire up to 19.9 percent of the voting securities of BankFirst Corporation under certain circumstances.

C. Federal Reserve Bank of Chicago (Phillip Jackson, Applications Officer) 230 South LaSalle Street, Chicago, Illinois 60690-1414:

1. ULLICO, Inc., Washington, D.C.; to become a bank holding company by acquiring 100 percent of the voting shares of Amalgamated Investments Company, Chicago, Illinois, and thereby indirectly acquire voting shares of Amalgamated Bank of Chicago, Chicago, Illinois.

D. Federal Reserve Bank of Minneapolis (JoAnne F. Lewellen, Assistant Vice President) 90 Hennepin Avenue, Minneapolis, Minnesota 55480-0291:

1. Inter-Mountain Bancorp, Inc., Bozeman, Montana; to acquire 100 percent of the voting shares of Chouteau County Bancshares, Inc., Fort Benton, Montana, and thereby indirectly acquire voting shares of First State Bank, Fort Benton, Montana.

2. Stockman Financial Corporation, Miles City, Montana; to acquire 100 percent of the voting shares of Marquette Bank Montana, National Association, Conrad, Montana.

E. Federal Reserve Bank of Kansas City (D. Michael Manies, Assistant Vice President) 925 Grand Avenue, Kansas City, Missouri 64198-0001:

1. Sturm Financial Group, Inc., Denver, Colorado; to become a bank holding company by acquiring 100 percent of the voting shares of Sturm Banks of Colorado, Inc., Denver, Colorado, and thereby indirectly acquire Bank of Cherry Creek N.A., Boulder, Colorado, Bank of Cherry Creek N.A., Denver, Colorado, Mesa National Bank, Grand Junction, Colorado, Western National Bank of Colorado, Colorado Springs, Colorado; Sturm Banks of Wyoming, Inc., Denver, Colorado, and thereby indirectly acquire American National Bank of Cheyenne, Cheyenne, Wyoming, Wyoming Bank & Trust Company N.A., Buffalo, Wyoming, Stockgrowers State Bank N.A., Worland, Wyoming, Bank of Laramie N.A., Laramie, Wyoming; and Sturm Banks of Kansas City, Inc., Denver, Colorado, and thereby indirectly acquire Premier Bank, Lenexa, Kansas.

In connection with this application, Applicant also has applied to acquire Community First Data Services, Inc., Cheyenne, Wyoming, and thereby engage in data processing activities, pursuant to § 225.28(b)(14) of Regulation Y.

Board of Governors of the Federal Reserve System, September 26, 2000.
Robert deV. Frierson,
Associate Secretary of the Board.

[FR Doc. 00-25132 Filed 9-29-00; 8:45 am]

BILLING CODE 6210-01-P